DEPARTMENT OF HOMELAND SECURITY

Federal Emergency Management Agency

[Docket ID: FEMA-2022-0019; OMB No. 1660-NW151]

Agency Information Collection Activities: Proposed Collection; Comment Request; Survey Following the National Test of the Wireless Emergency Alert (WEA) System

AGENCY: Federal Emergency Management Agency, Department of Homeland Security.

ACTION: 60-Day notice of new collection and request for comments.

SUMMARY: The Federal Emergency Management Agency (FEMA), as part of its continuing effort to reduce paperwork and respondent burden, invites the general public to take this opportunity to comment on a new information collection. In accordance with the Paperwork Reduction Act of 1995, this notice seeks comments concerning a survey following the upcoming national test of the Wireless Emergency Alert (WEA) system.

DATES: Comments must be submitted on or before September 6, 2022.

ADDRESSES: Please submit comments at www.regulations.gov under Docket ID FEMA-2022-0019. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Ward D. Hagood, IPAWS DS2 T&E Manager, FEMA HQ/PNP-NCP-CCD-IPAWS, phone: (202) 212-1478, email: ward.hagood@fema.dhs.gov. You may contact the Information Management Division for copies of the proposed collection of information at email address: FEMA-Information-Collections-Management@fema.dhs.gov.

SUPPLEMENTARY INFORMATION: Public Law 114-143, the Integrated Public Alert and Warning System Modernization Act of 2015, and Presidential Executive Order 13407, Public Alert and Warning System, require FEMA to implement the public alert and warning system to disseminate timely and effective warnings to people in situations of war, terrorist attack, natural disaster, or other hazards to public safety and wellbeing, and conduct tests of the public alert and warning system at least once every three years. The Act also requires public education efforts and a general market awareness campaign to ensure understanding of the functions of the public alert and warning system. The Integrated Public Alert and Warning System (IPAWS) is the Department of Homeland Security's (DHS) response to the Executive Order. The Stafford Act (U.S.C. title 42, Chapter 68, Subchapter II) requires that FEMA make IPAWS available to Federal, state, local, tribal, and territorial agencies for the purpose of providing warning to governmental authorities and the civilian population in areas endangered by disasters. FEMA is planning a national test of a key component of IPAWS, the Wireless Emergency Alert (WEA) system, to satisfy the testing and public education requirements of the IPAWS Modernization Act of 2015 (Pub. L. 114-143). The WEA system broadcasts alerts to cell phones configured to receive such alerts (which, at this point, is most phones sold in the United States). The WEA national test will be announced in advance by FEMA and widely publicized. The test will help FEMA assess WEA's geographic reach, along with additional key parameters outlined in the IPAWS Modernization Act of 2015. This will help FEMA and other WEA stakeholders, such as the Federal Communications Commission (FCC) and Congressional committees, enhance and expand WEA, and thus further improve emergency alerting capabilities, leading to a better prepared and more resilient nation. FEMA will implement a survey to capture key technical performance factors of WEA, such as geographic coverage and carrier-related issues, as well as non-technical aspects essential to WEA's role in national alerting, including alerting effectiveness in reaching diverse populations, including traditionally underserved populations. The survey will also assess public awareness of the WEA system.

Collection of Information

Title: Survey Following the National Test of the Wireless Emergency Alert (WEA) System.

Type of Information Collection: New information collection.

OMB Number: 1660-NW151.

FEMA Form: FEMA Form FF-302-FY-22-101, WEA National Test Survey.

Abstract: FEMA will field a survey following a national test of the WEA system. The survey will capture key technical performance factors, such as geographic coverage and carrier-related issues, and non-technical aspects essential to WEA's role in national alerting, including effectiveness in reaching diverse populations. FEMA will use this information to improve the performance of the WEA system and assess public awareness.

Affected Public: Individuals or households.

Estimated Number of Respondents: 82,586.

Estimated Number of Responses: 82,586.

Estimated Total Annual Burden Hours: 6,739.

Estimated Total Annual Respondent Cost: $273,671.

Estimated Respondents' Operation and Maintenance Costs: $0.

Estimated Respondents' Capital and Start-Up Costs: $0.

Estimated Total Annual Cost to the Federal Government: $2,080,008.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility and clarity of the information to be collected; and (d) minimize the burden of the collection of information on those who are to respond, including through the use of appropriate automated, electronic, mechanical or other technological collection techniques or other forms of information technology, e.g., permitting electronic submission of responses.

Millicent Brown Wilson,
Records Management Branch Chief, Office of the Chief Administrative Officer, Mission Support, Federal Emergency Management Agency, Department of Homeland Security.

[FR Doc. 2022-14498 Filed 7-6-22; 8:45 am]

BILLING CODE 9111-AB-P